DEPARTMENT OF THE INTERIOR

Bureau of Indian Affairs

[222A2100DD/AAKC001030/A0A51010.999900]

Proclaiming Certain Lands as Reservation for the Three Affiliated Tribes of the Fort Berthold Reservation, North Dakota

AGENCY: Bureau of Indian Affairs, Interior.

ACTION: Notice of reservation proclamation.

SUMMARY: This notice informs the public that the Assistant Secretary—Indian Affairs proclaimed approximately 9,302.93 acres, more or less, an addition to the reservation of the Three Affiliated Tribes of the Fort Berthold Reservation, North Dakota.

DATES: This proclamation was made on December 22, 2021.

FOR FURTHER INFORMATION CONTACT: Ms. Sharlene M. Round Face, Bureau of Indian Affairs, Division of Real Estate Services, 1001 Indian School Road NW, Box #44, Albuquerque, New Mexico 87104, Sharlene.roundface@bia.gov, (505) 563-3132.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. The land was proclaimed to be the Figure Four parcel for the Three Affiliated Tribes of the Fort Berthold Reservation, North Dakota in Dunn County, and McKenzie County, North Dakota.

Figure Four Parcel, 310 34

Fifth Principal Meridian, North Dakota

T. 148 N., R. 95 W.,

Sec. 4, lots 1 thru 5, S½NW¼, and SW¼;

Sec. 5;

Sec. 6;

Sec. 7, lots 1 thru 4, NE¼, E½NW¼, E½SW¼, N½SE¼, and SW¼SE¼;

Sec. 8, N½SW¼, N½SE¼, and SE¼SE¼;

Sec. 9, lot 4, NE¼NW¼, and S½SW¼;

Sec. 17, SW¼NW¼, N½SW¼, and SE¼SW¼;

Sec. 18, lots 1, 3, and 4, NW¼NE¼, S½NE¼, E½NW¼, NE¼SE¼, and S½SE¼;

Sec. 19, lots 1 thru 4, N½NE¼, SW¼NE¼, E½NW¼, E½SW¼, and SE¼;

Sec. 20, SW¼SW¼;

Sec. 28, lots 3 and 4, E½SW¼, and SW¼SW¼;

Sec. 29, lot 1, W½NW¼, NW¼SW¼, SE¼SW¼, and S½SE¼, EXCEPT a tract of land described as follows: Beginning at the southwest corner of Section 29, thence north on the west line of Lot 1 a distance of 662.13 feet, thence N 89°53′25″ E on an assumed bearing a distance of 1,317.08 feet to the east line of Lot 1, thence S 0°08′33″ E on said east line of lot 1 for a distance of 261.6 feet, thence N 89°52′02″ E a distance of 300 feet, thence southeasterly to a point on the south line of section 29, said point being 658.35 feet easterly of the W1/16 corner common to sections 29 and 32, thence S 89°52′02″ W a distance of 658.35 feet to said W1/16 corner, thence continue S 89°52′02″ W on the section line a distance of 1,316.70 feet to the point of beginning;

Sec. 30, lots 4 and 5, E½NE¼, SE¼SW¼, NE¼SE¼, and SW¼SE¼, EXCEPT a tract more particularly described as follows: Beginning at the southeast corner of lot 5, thence north on the east line of lot 5 a distance of 455.08 feet, thence westerly parallel to the south line of lot 5 a distance of 400 feet, thence southwesterly to a point on the south line of lot 5, said point being 732.95 feet westerly of the southeast corner of lot 5, thence east along the south line of lot 5 a distance of 732.95 feet, to the point of beginning;

Sec. 31, lot 3 and NE¼NW¼;

Sec. 32, lots 1 thru 3, EXCEPT Parcels A thru E;

Sec. 33: Lot 1 and N½NW¼.

T. 148 N., R. 96 W.,

Sec. 1, lots 1 thru 3, S½NE¼, and S½;

Sec. 2, SE¼NE¼ and NE¼SE¼;

Sec. 12;

Sec. 13, N½, E½SW¼, SW¼SW¼, and SE¼;

Sec. 14, SE¼SE¼;

Sec. 23, N½NE¼, SE¼NE¼, and S½SE¼;

Sec. 24, W½NE¼, W½, and SE¼;

Sec. 25, lots 1 and 2, N½NE¼, NW¼, N½SW¼, SW¼SW¼, N½SE¼, and SE¼SE¼;

Sec. 26, lots 5, 6, and 10, N½NE¼, and SE¼NE¼.

T. 149 N., R. 95 W.,

Sec. 25, lot 4;

Sec. 26, SE¼SE¼;

Sec. 33, S½;

Sec. 34, S½, EXCEPT all that portion of the S½SE¼ of said section 34, lying within a strip of land, said strip being 80 feet wide, lying 40 feet on each side of the following described center line: Beginning at a point on the east line of the said S½SE¼ of section 34, 305.2 feet from the southeast corner thereof, said point being on the centerline of the state highway as surveyed and staked over and across the said S½SE¼, section 34, thence S 25°31′ W 339.8 feet to the south line of the said S½SE¼, section 34, excepting all that portion lying within 33 feet of the section lines;

Sec. 35, E½ and SW¼, EXCEPT all that portion of the SW¼ of said section 35, lying within a strip of land, said strip being 80 feet wide, lying 40 feet on each side of the following described center line: Beginning at a point on the west line of the said SW¼ of section 35, 305.2 feet from the southwest corner thereof, said point being on the center line of the state highway as surveyed and staked over and across the said SW¼ of section 35, thence N 25°31′ E 315 feet, excepting all that portion lying within 33 feet of the section line.

The above described lands contain a total of 9,302.93 acres, more or less which are subject to all valid rights, reservations, rights-of-way, and easements of record.

This proclamation does not affect title to the lands described above, nor does it affect any valid existing easements for public roads, highways, public utilities, railroads and pipelines, or any other valid easements or rights-of-way or reservations of record.

Bryan Newland,
Assistant Secretary—Indian Affairs.

[FR Doc. 2022-00388 Filed 1-11-22; 8:45 am]

BILLING CODE 4337-15-P